DEPARTMENT OF DEFENSE

Office of the Secretary

[Transmittal No. 19-16]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-16 with attached Policy Justification.

Dated: September 20, 2019.
Aaron T. Siegel,
Alternate OSD Federal Register Liaison Officer, Department of Defense.

BILLING CODE 5001-06-P

BILLING CODE 5001-06-C

Transmittal No. 19-16

Notice of Proposed Issuance of Letter of Offer Pursuant to Section 36(b)(1) of the Arms Export Control Act, as amended

(i) Prospective Purchaser: Kingdom of Morocco

(ii) Total Estimated Value:

Major Defense Equipment * | $ 0 million
Other | $250.4 million
Total | $250.4 million

(iii) Description and Quantity or Quantities of Articles or Services under Consideration for Purchase:

Major Defense Equipment (MDE): None

Non-MDE:

F-16 support equipment, spares and repair parts; personnel training and training equipment; publications and technical documentation; munitions support equipment (for AMRAAM, CMBRE, JDAM, PAVEWAY), support and test equipment; integration and test; U.S. Government and contractor engineering, technical and logistical support services; and other related elements of logistics and program support.

(iv) Military Department: Air Force (MO-D-QAK)

(v) Prior Related Cases, if any: MO-D-SAY

(vi) Sales Commission, Fee, etc., Paid, Offered, or Agreed to be Paid: None

(vii) Sensitivity of Technology Contained in the Defense Article or Defense Services Proposed to be Sold: None

(viii) Date Report Delivered to Congress: June 27, 2019

* As defined in Section 47(6) of the Arms Export Control Act.

POLICY JUSTIFICATION

Morocco—Sustainment for F-16 Fleet

The Government of Morocco has requested a continuation of sustainment support to its current F-16 fleet to include the following non-MDE components: F-16 support equipment, spares and repair parts; personnel training and training equipment; publications and technical documentation; munitions support equipment (for AMRAAM, CMBRE, JDAM, PAVEWAY), support and test equipment; integration and test; U.S. Government and contractor engineering, technical and logistical support services; and other related elements of logistics and program support. The total estimated program cost is $250.4 million.

This proposed sale will support the foreign policy and national security of the United States by helping to improve the security of a major Non-NATO ally that is an important force for political stability and economic progress in North Africa.

The proposed sale will improve Morocco's self-defense capability. Additionally, the continuation of sustainment for their F-16 fleet strengthens the interoperability with the United States and other regional allies. Morocco already operates an F-16 fleet and this sustainment case will ensure that they can continue operating their fleet in the future. Morocco will have no difficulty absorbing this support into its armed forces.

The proposed sale will not alter the basic military balance in the region.

The principal contractor will be Lockheed Martin Corporation, Bethesda, Maryland. The purchaser typically requests offsets. Any offset agreement will be defined in negotiations between the purchaser and the contractor.

Implementation of this proposed sale will not require the assignment of additional U.S. Government and/or contractor representatives to Morocco.

There will be no adverse impact on U.S. defense readiness as a result of this proposed sale.

[FR Doc. 2019-20825 Filed 9-24-19; 8:45 am]

BILLING CODE 5001-06-P